NUCLEAR REGULATORY COMMISSION

[NRC-2022-0170]

Information Collection: Requests to Federally Recognized Indian Tribes for Information; Correction

AGENCY: Nuclear Regulatory Commission.

ACTION: Notice of submission to the Office of Management and Budget; request for comment; correction.

SUMMARY: The U.S. Nuclear Regulatory Commission (NRC) is correcting a notice that was published in the Federal Register (FR) on July 25, 2023, regarding submission of the renewal of an existing collection of information to the Office of Management and Budget (OMB) for review. This action is necessary to correct the number of anticipated responses and respondents to the information collection.

DATES: The correction takes effect on August 1, 2023.

ADDRESSES: Please refer to Docket ID NRC-2022-0170 when contacting the NRC about the availability of information regarding this document. You may obtain publicly available information related to this document using any of the following methods:

• Federal Rulemaking Website: Go to https://www.regulations.gov and search for Docket ID NRC-2022-0170. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The supporting statement is available in ADAMS under Accession No. ML23159A048.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: David Cullison, Office of the Chief Information Officer, U.S. Nuclear Regulatory Commission, Washington, DC 20555-0001, telephone: 301-415-2084; email: David.Cullison@nrc.gov.

SUPPLEMENTARY INFORMATION: In the FR on July 25, 2023, in FR Doc. 2023-15691, on page 47926, in the second column under the heading “II. Background,” second paragraph, item number 7, “The estimated number of annual responses,” replace “32” with “640 (20 requests annually × 32 responses per request).” In the third column, item number 8, “The estimated number of annual respondents,” replace “637” with “45.”

Dated: July 27, 2023.
For the Nuclear Regulatory Commission.
David C. Cullison,
NRC Clearance Officer, Office of the Chief Information Officer.

[FR Doc. 2023-16255 Filed 7-31-23; 8:45 am]

BILLING CODE 7590-01-P